DEPARTMENT OF LABOR

Office of the Secretary

Agency Information Collection Activities; Submission for OMB Review; Comment Request; Prohibited Transaction Class Exemption 75-1, Security Transactions With Broker-Dealers, Reporting Dealers, and Banks

ACTION: Notice of availability; request for comments.

SUMMARY: The Department of Labor (DOL) is submitting the Employment Benefits and Security Agency (EBSA) sponsored information collection request (ICR) revision titled, “Prohibited Transaction Class Exemption 75-1, Security Transactions with Broker-Dealers, Reporting Dealers, and Banks,” to the Office of Management and Budget (OMB) for review and approval for use in accordance with the Paperwork Reduction Act (PRA) of 1995. Public comments on the ICR are invited.

DATES: The OMB will consider all written comments that agency receives on or before July 29, 2019.

ADDRESSES: A copy of this ICR with applicable supporting documentation; including a description of the likely respondents, proposed frequency of response, and estimated total burden may be obtained free of charge from the RegInfo.gov website at http://www.reginfo.gov/public/do/PRAViewICR?ref_nbr=201906-1210-005 (this link will only become active on the day following publication of this notice) or by contacting Frederick Licari by telephone at 202-693-8073, TTY 202-693-8064, (these are not toll-free numbers) or sending an email to DOL_PRA_PUBLIC@dol.gov.

Submit comments about this request by mail to the Office of Information and Regulatory Affairs, Attn: OMB Desk Officer for DOL-EBSA, Office of Management and Budget, Room 10235, 725 17th Street NW, Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW, Washington, DC 20210; or by email: DOL_PRA_PUBLIC@dol.gov.

FOR FURTHER INFORMATION CONTACT: Frederick Licari by telephone at 202-693-8073, TTY 202-693-8064, (these are not toll-free numbers) or sending an email to DOL_PRA_PUBLIC@dol.gov.

SUPPLEMENTARY INFORMATION: This ICR seeks approval under the PRA for revisions to the Prohibited Transaction Class Exemption 75-1, Security Transactions with Broker-Dealers, Reporting Dealers, and Banks. PTE 1975-1 provides exemptions for transactions between employee benefit plans and individual retirement accounts (IRAs) and broker-dealers, reporting dealers and banks, relating to securities purchases and sales, provided specified conditions are met. The exempted transactions include an employee benefit plan or IRA's purchase of securities from broker-dealers' inventories of stocks, from underwriting syndicates in which a fiduciary is a member, from banks, from reporting dealers, and from a market-maker that is a fiduciary. The exempted transactions also include, under certain conditions, a plan's or IRA's accepting an extension of credit from a broker-dealer for the purpose of facilitating settlement of a securities transaction. Among other conditions, PTE 1975-1 requires plans and IRAs involved in the transactions to maintain adequate records of the transactions for a period of six years. This information collection is a revision because the Department is renewing the information collections contained in PTE 75-1 that had been in place prior to 2016. Section 408 of the Employee Retirement Income Security Act of 1974 (“ERISA”) authorizes this information collection. See 29 U.S.C. 1108.

This information collection is subject to the PRA. A Federal agency generally cannot conduct or sponsor a collection of information, and the public is generally not required to respond to an information collection, unless the OMB, under the PRA, approves it and displays a currently valid OMB Control Number. In addition, notwithstanding any other provisions of law, no person shall generally be subject to penalty for failing to comply with a collection of information that does not display a valid Control Number. See 5 CFR 1320.5(a) and 1320.6. The DOL obtains OMB approval for this information collection under Control Number 1210-0092. The current approval is scheduled to expire on June 30, 2019; however, the DOL notes that existing information collection requirements submitted to the OMB will receive a month-to-month extension while they undergo review. New requirements would only take effect upon OMB approval. For additional substantive information about this ICR, see the related notice published in the Federal Register on April 5, 2019 (84 FR 13719).

Interested parties are encouraged to send comments to the OMB, Office of Information and Regulatory Affairs at the address shown in the ADDRESSES section within thirty-(30) days of publication of this notice in the Federal Register. In order to help ensure appropriate consideration, comments should mention OMB Control Number 1210-0092.

The OMB is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected; and

• Minimize the burden of the collection of information on those who are to respond, including through the use of appropriate automated, electronic, mechanical, or other technological collection techniques or other forms of information technology, e.g., permitting electronic submission of responses.

Agency: DOL-EBSA.

Title of Collection: Prohibited Transaction Class Exemption 75-1, Security Transactions with Broker-Dealers, Reporting Dealers, and Banks.

OMB Control Number: 1210-0092.

Affected Public: Businesses or other for-profits, Not-for-profits institutions.

Total Estimated Number of Respondents: 6,116.

Total Estimated Number of Responses: 6,116.

Total Estimated Annual Time Burden: 1,019 hours.

Total Estimated Annual Other Costs Burden: $0.

Authority: 44 U.S.C. 3507(a)(1)(D).

Dated: June 20, 2019.
Frederick Licari,
Departmental Clearance Officer.

[FR Doc. 2019-13694 Filed 6-26-19; 8:45 am]

BILLING CODE 4510-29-P